DEPARTMENT OF COMMERCE

National Institute of Standards and Technology

Notice of U.S. National Work Group Meeting for Hydrogen Measurement Standards

AGENCY: National Institute of Standards and Technology, Commerce.

ACTION: Notice of a meeting for the U.S. National Work Group for Hydrogen Measurement Standards, October 2007.

SUMMARY: The National Institute of Standards and Technology (NIST), Technology Services, Weights and Measures Division (WMD) announces plans to hold a U.S. National Work Group Meeting (USNWG) for the development of hydrogen measurement standards for commercial equipment on October 3-4, 2007, from 9 a.m. to 5 p.m.

DATES: October 3, 2007, to October 4, 2007.

Meeting Location and Registration: The USNWG Meeting will be held at NIST, 100 Bureau Drive, Gaithersburg, Maryland 20899. The Wednesday, October 3, meeting will be held in Building 101, Lecture Room B, and the Thursday, October 4, meeting in Building 101, Lecture Room A. Those unable to attend in person may participate via teleconference; please contact WMD for details. Written comments from stakeholders unable to attend or participate in these meeting dates must be received by Friday, September 28, 2007 and sent to the attention of Ms. Juana Williams. On-line registration at http://www.nist.gov/public_affairs/confpage/conflist.htm closes Wednesday, September 26, 2007; after this date, contact Ms. Angela Ellis, NIST Conference Facilities, at 301-975-3881.

SUPPLEMENTARY INFORMATION: As part of the NIST WMD mandate to “fix the standard of weights and measures” its staff and the USNWG will meet for the first in-person (and via audio conference) meeting to promote the development of legal metrology standards to facilitate the United States transition to a hydrogen economy. USNWG participants are technical experts working on existing related international and national standards activities, motor-fuel dispenser and component manufacturers and associated service industry, suppliers of motor-fuel products such as hydrogen, service station installers and operators, alternative fuel vehicle manufacturers, or regulatory officials enforcing legal controls over commercial devices.

Establishment of these standards will ensure the selection and use of suitable, approved, and properly maintained equipment that provides accurate hydrogen measurement and sufficient valid transaction information to the buyer and seller. Historically, these standards are adopted by the states as the basis of uniform requirements used to regulate weighing and measuring devices and commodities sold on the basis of weight, measure, or count. The goal of NIST and the USNWG is to establish commercial hydrogen measurement standards that encompass: (1) Device and related equipment codes, (2) method of sale requirements, (3) labeling requirements, (4) quality standards, (5) sampling procedures, (6) inspection procedures, (7) test equipment, and (8) safety practices. These standards and related documents will be the basis for day-to-day commercial operations, training weights and measures regulatory officials and service companies, and educating consumers about hydrogen measurement.

FOR FURTHER INFORMATION CONTACT: Juana Williams by mail at NIST, Weights and Measures Division, 100 Bureau Drive, Mail Stop 2600, Gaithersburg, MD 20899-2600; by e-mail at juana.williams@nist.gov; by telephone at 301-975-3989; or by fax at 301-975-8091. NIST is not open to the general public, and due to limited space, registration is required and should be completed by September 26, 2007. The USNWG meeting agenda will be available on September 6, 2007, to all registered participants and upon request by other interested parties by contacting the NIST WMD.

Dated: September 11, 2007.
James M. Turner,
Acting Director.

[FR Doc. E7-18368 Filed 9-17-07; 8:45 am]

BILLING CODE 3510-13-P